DEPARTMENT OF THE INTERIOR

National Park Service

60-Day Notice of Intention To Request Clearance of Collection of Information; Opportunity for Public Comment

AGENCY: Department of the Interior, National Park Service.

ACTION: Notice and request for comments.

SUMMARY: NPS requests comments on extending and modifying two existing NPS information collection instruments that are processed by the existing, Internet-based Research Permit and Reporting System. One information collection instrument, the Application for a Scientific Research and Collecting Permit, is used by applicants to apply to parks for scientific research and collecting permits for natural or social science activities that require permits. The other instrument, the Investigator's Annual Report, is used by permittees to submit their required annual progress reports. NPS will use the information you submit in response to this notice to assist its decision-making regarding whether or not to request extension of, and to make modifications to, the two collections of information administered through the existing Research Permit and Reporting System. Once NPS develops and adopts any modifications that may be appropriate, NPS currently expects to submit a request for an extension of the existing, but slightly modified, collection of information package to OMB with a request that OMB approve the package and assign an OMB clearance number to the two collection of information forms that are part of this system.

| Estimated numbers of: Responses | Estimated numbers of: Burden hours
Research Permit and Reporting System | 6,000 | 4,875

Under provisions of the Paperwork Reduction Act of 1995 and 5 CFR Part 1320, Reporting and Record Keeping Requirements, the National Park Service is soliciting comments on the need for gathering the information in the two collections of information being considered for modification and extension. The NPS also is asking for comments on the practical utility of the information being gathered; the validity and accuracy of the reporting burden hour estimate; ways to enhance the quality, utility, and clarity of the information to be collected; and ways to minimize the burden to respondents, including use of automated information collection techniques or other forms of information technology.

You may obtain copies of the existing application form, annual reporting form, and related guidance and explanatory material from the NPS Research Permit and Reporting System Web site at: http://science.nature.nps.gov/research. You also may obtain copies of the documents and additional information from the source identified below.

If you wish to comment, you may submit your comments by any one of several methods. Although you may mail comments to the postal address given here, due to delays caused by processing of mail you may wish to use a different method. You may send your comments by facsimile to the fax number given below. You may instead comment via the Internet to the e-mail address given here (Please submit e-mail comments as an attached ASCII or MSWord file and avoid the use of special characters and any form of encryption. Please also include “Attn: NPS Research Permit and Reporting System” and your name and return address in your e-mail message. If you would like, but do not receive, a confirmation from the system that we have received your e-mail message, contact us directly at the phone number given here). Finally, you may hand-deliver comments to the address given below.

Our practice is to make comments, including respondent names and addresses (business or home, whatever we receive), available for public review during regular business hours. Individual respondents may request that we withhold their home address from the record, which we will honor to the extent allowable by law. There also may be circumstances in which we would withhold from the record a respondent's identity, as allowable by law. If you wish us to withhold your name and/or address, you must state this prominently at the beginning of your comment. We will make all submissions from organizations or businesses, and from individuals identifying themselves as representatives or officials of organizations or businesses, available for public inspection in their entirety. We will not consider anonymous comments.

DATES: Public comments will be accepted on or before 60 days from the date this notice is published in the Federal Register.

Send Comments To: Dr. John G. Dennis. By mail: Natural Resources (3127 MIB), National Park Service, 1849 C Street, NW., Washington, DC 20240. By hand delivery: Natural Resources (11th floor), National Park Service, 1201 Eye Street, NW., Washington, DC 20005. By fax: 202-371-2131. By e-mail: researchcoll@nps.gov.

FOR FURTHER INFORMATION CONTACT: Dr. John G. Dennis. Voice: 202-513-7174 Fax: 202-371-2131; E-mail: researchcoll@nps.gov.

SUPPLEMENTARY INFORMATION: Title: National Park Service Research Permit and Reporting System.

Bureau Form Number: Application for a Scientific Research and Collecting Permit: 10-741; Investigator's Annual Report: 10-226.

OMB Number: 1024-0236.

Expiration Date: 4/30/2004.

Type of Request: Revision of a previously approved collection.

Description of Need: The currently approved information collection responds to the statutory requirement that NPS preserve park resources and regulate the use of units of the National Park System. The information currently collected identifies: (1) Names and business contact information for people who seek a permit to conduct natural or social science research and collecting activities in individual units of the National Park System, (2) what activities they wish to conduct, (3) where they wish to conduct the activities, (4) whether or not they wish to collect specimens as part of the activities they propose to conduct, and (5) for applicants who have received a permit, annual summaries of the actual results of their permitted activities. NPS uses the collected information for managing the use and preservation of park resources and for reporting the status of permitted research and collecting activities. NPS is considering proposing to change both the Application for a Scientific Research and Collecting Permit and the Investigator's Annual Report to improve their usability by respondents and to improve the focus of the information NPS collects to address specific needs that use of the two forms over the last three years has revealed. Examples of such needs associated with managing the permit include additional information about the project scope and status, such as expected total time span of the project, specific identification of project personnel who will be working in the park, status of processing collected specimens, planned schedules for the field work phases of the project, and expected end date for the project.

More specifically, NPS is considering proposing changes to the Application to improve the use of the Application for both scientific research and collecting and scientific education activities. NPS is considering proposing changes to the Application to improve the clarity of information provided to, and obtained from, respondents who request use of a non-NPS repository regarding the duty the respondents have for securing acceptance by the proposed non-NPS repository of becoming the curator for collections authorized in the permit. NPS is considering proposing changes to the Application to better understand the schedule of field work activities. NPS is considering proposing changes to the Investigator's Annual Report to reduce the complexity of the form by assigning responsibility to NPS, not the respondent, for determining the appropriate activity code for each permitted project.

Automated Data Collection: The information collection and status reporting system for which the renewal of two components of a single collection of information package is being proposed in this notice currently is available to applicants, permittees, and the public through the NPS Research Permit and Reporting System Web site (http://science.nature.nps.gov/research). In addition to considering the modification of the two information collection forms, NPS is developing modification to the Internet site to increase the effectiveness and efficiency of this automation system to facilitate the permit application and progress reporting process.

Description of Respondents: Representatives of academic and other research institutions, Federal, state, or local agencies, research businesses; other scientific parties seeking an NPS research and collecting permit; permittees who submit the annual report of accomplishment that is one of the permit conditions.

Estimated Average Number of Respondents: 3,000 per year.

Estimated Average Number of Responses: 6,000 per year. For each permit cycle, each respondent will respond usually once to prepare and submit the application for a permit and respondents who are successful in being awarded a permit will respond a second time to submit the Investigator's Annual Report. Given the most applicants are successful in being awarded a permit and that permit renewal usually occurs annually, the number of responses will approach a total that is two times the number of respondents.

Estimated Average Burden Hours Per Two-Part Response: 1,625 hours per year total for responding to both parts of the collection information.

Frequency of Response: 2 times per respondent per year—once to submit the application and once to submit the Investigator's Annual Report.

Estimated Annual Reporting Burden: 4,875 hours.

Dated: November 12, 2003.
Leonard E. Stowe,
Acting National Park Service Information Collection Clearance Officer.

[FR Doc. 03-29988 Filed 12-4-03; 8:45 am]

BILLING CODE 43210-70-M